DEPARTMENT OF TRANSPORTATION

National Highway Traffic Safety Administration

49 CFR Part 571

[Docket No. 00-7794]

Federal Motor Vehicle Safety Standards (FMVSS); Small Business Impacts of School Bus Safety

AGENCY: National Highway Traffic Safety Administration (NHTSA), DOT.

ACTION: Notice of regulatory review; extension of comment period.

SUMMARY: This document grants a request to extend the comment period on an agency request for comments on the economic impact of its regulations on small entities. As required by Section 610 of the Regulatory Flexibility Act, we are attempting to identify rules that may have a significant economic impact on a substantial number of small entities. We also request comments on ways to make these regulations easier to read and understand. The focus of this notice is rules that specifically relate to school bus safety.

DATES: Extended comment closing date: Comments on the September 13, 2000 notice, 65 FR 55212, Docket No. 00-7794, must be received by the agency on or before close of business on November 13, 2000.

ADDRESSES: You should mention the docket number of this document in your comments and submit your comments in writing to: Docket Management, Room PL-401, 400 Seventh Street, SW., Washington, DC, 20590. Alternatively, you may submit your comments electronically by e-mail at http://dms.dot.gov.

You may call the Docket at 202-366-9324, and visit it from 10 a.m. to 5 p.m., Monday through Friday.

FOR FURTHER INFORMATION CONTACT: Nita Kavalauskas, Office of Regulatory Analysis and Evaluation, Office of Plans and Policy, National Highway Traffic Safety Administration, U.S. Department of Transportation, 400 Seventh Street, SW., Washington, DC, 20590. Telephone: (202) 366-2584. Facsimile (fax): (202) 366-2559.

SUPPLEMENTARY INFORMATION: On September 13, 2000, NHTSA published a notice announcing a review of Federal Motor Vehicle Safety Standards (FMVSS) relating to school bus safety. Section 610 of the Regulatory Flexibility Act of 1980 (Pub. L. 96-354), as amended by the Small Business Regulatory Enforcement Fairness Act of 1966 (Pub. L. 104-121), requires agencies to conduct periodic reviews of final rules that have a significant economic impact on a substantial number of small business entities. The purpose of these reviews is to determine whether such rules should be continued without change, amended, or rescinded, consistent with the objectives of applicable statutes, to minimize any significant economic impact of the rules on a substantial number of small entities. We will consider: (1) The continued need for the rule; (2) the nature of complaints or comments received from the public; (3) the complexity of the rule: (4) the extent to which the rule overlaps, duplicates, or conflicts with other federal rules or with state or local government rules; and (5) the length of time since the rule has been evaluated or the degree to which technology, economic conditions, or other factors have changed in the area affected by the rule. We are seeking comments on whether any requirements in 49 CFR 571.131, 571.217, and 571.220 through 571.222 have a significant economic impact on a substantial number of small entities. In conjunction with our section 610 reviews, we will review §§ 57.131, 571.217, and 571.220 through 571.222 to determine if these regulations can be organized and/or rewritten to make them easier to read, understand, and use.

The request for comments specified a comment closing date of September 29, 2000. However, on September 13, 2000, we received a request for an extension of the comment closing date from the National Truck Equipment Association (NTEA) on behalf of its affiliate division, the Manufacturers Council of Small School Buses (MCSSB). NTEA stated that it wished to provide comments on our request, but was unable to gather information from small businesses and submit comments within the time frame. Therefore, NTEA requested an additional 60 days for submission of its comments.

The agency is interested in comments from NTEA, small businesses and other interested parties. Thus, in order to provide NTEA and other interested parties ample time and opportunity to express their views on the small business impacts of school bus safety, NHTSA believes that there is good cause for the extension of the comment period. NHTSA has determined that an appropriate comment period is the same amount of time it typically allows for comments to a notice of proposed rulemaking. However, the agency does not believe that an extension of 60 days past the original comment date is warranted. NHTSA has determined that it is appropriate to extend the comments period for 45 days and that such an extension is consistent with the public interest. Accordingly, NTEA's request to extend the comment period for an additional 60 days is denied, but the comment period is extended for a period of 45 days to November 13, 2000.

Authority: 49 U.S.C. 322, 30111, 30115, 30117, and 30166; delegation of authority is at 49 CFR 1.50.

William H. Walsh,
Associate Administrator for Plans and Policy.

[FR Doc. 00-24666 Filed 9-26-00; 8:45 am]

BILLING CODE 4910-59-P